DEPARTMENT OF COMMERCE

Bureau of Export Administration

Action Affecting Export Privileges; Optical Associates, Inc.

In the Matter of: Optical Associates, Inc., 1425 McCandless Drive, Milpitas, California 95035, Respondent

Order

The Office of Export Enforcement, Bureau of Export Administration, United States Department of Commerce (BXA), having notified Optical Associates, Inc. (OAI) of its intention to initiate an administrative proceeding against it pursuant to section 13(c) of the Export Administration Act of 1979, as amended (50 U.S.C.A. app. §§ 2401-2420 (1991 & Supp. 2000)) (the Act), ¹ and the Export Administration Regulations (currently codified at 15 CFR Parts 730-774 (2000)) (the Regulations),² based on allegations that, on or about December 2, 1998, OAI exported a U.S.-origin Mask Aligner and parts from the United States to Bhaba Atomic Research Center (BARC), an entity on the Department of Commerce Entity List, Supplement No. 4 to Part 744 of the Regulations, without obtaining a Department of Commerce license as required by section 744.11 of the Regulations, in violation of section 764.2(a) of the Regulations, and;

BXA and OAI having entered into a Settlement Agreement pursuant to Section 766.18(a) of the Regulations whereby they agreed to settle this matter in accordance with the terms and conditions set forth therein, and the terms of the Settlement Agreement having been approved by me;

¹ The Act expired on August 20, 1994. Executive Order 12924 (3 CFR, 1994 Comp. 917 (1995)), which has been extended by successive Presidential Notices, the most recent being that of August 3, 2000 (64 FR 48347, August 8, 2000), continued the Regulations in effect under the International Emergency Economic Powers Act (50 U.S.C.A. §§ 1701-1706 (1991 & Supp. 2000)). The Act was reauthorized on November 13, 2000. See Pub. L. No. 106-508.

² The violation at issued occurred in 1998. The Regulations governing the violation at issue are codified at 15 CFR Parts 730-744 (1998), and to the degree to which they pertain to this matter, are substantially the same as the 2000 version of the Regulations.

It Is Therefore Ordered

First, that, for a period of three years from the date of this Order, Optical, Associates, Inc., 1425 McCandless Drive, Milpitas, California, 95035, and all of its successors or assigns, officers, representatives, agents, and employees, may not participate, directly or indirectly, in any way in any transaction involving any commodity, software, or technology (hereinafter collectively referred to as “item”) that is subject to the Regulations and that is exported or to be exported from the United States to India, or in any other activity subject to the Regulations that involves India, including, but not limited to:

A. Applying for, obtaining, or using any license, License Exception, or export control document;

B. Carrying on negotiations concerning, or ordering, buying, receiving, using, selling, delivering, storing, disposing of, forwarding, transporting, financing, or otherwise servicing in any way, any transaction involving any item that is subject to the Regulations and that is exported or to be exported from the United States to India, or in any other activity subject to the Regulations that involves India; or

C. Benefiting in any way from any transaction involving any item exported or to be exported from the United Stats to India that is subject to the Regulations, or in any other activity subject to the Regulations that involves India.

Second, that no person may, directly or indirectly, do any of the following:

A. Export or reexport to or on behalf of the denied person any item subject to the Regulations to India;

B. Take any action that facilitates the acquisition or attempted acquisition by the denied person of the ownership, possession, or control of any item subject to the Regulations that has been or will be exported from the United States to India, including financing or other support activities related to a transaction whereby the denied person acquires or attempts to acquire such ownership, possession or control;

C. Take any action to acquire from or to facilitate the acquisition or attempted acquisition from the denied person of any item subject to the Regulations that has been exported from the United States to India;

D. Obtain from the denied person in the United States any item subject to the Regulations with knowledge or reason to know that the item will be, or is intended to be, exported from the United States to India; or

E. Engage in any transaction to service any item subject to the Regulations that has been or will be exported from the United States to India, and which is owned, possessed or controlled by the denied person, or service any item, of whatever origin, that is owned, possessed or controlled by the denied person if such service involves the use of any item subject to the Regulations that has been or will be exported from the United States to India. For purposes of this paragraph, servicing means installation, maintenance, repair, modification or testing.

Third, that, after notice and opportunity for comment as provided in Section 766.23 of the Regulations, any person, firm, corporation, or business organization related to the denied person by affiliation, ownership, control, or position of responsibility in the conduct of trade or related services may also be made subject to the provisions of this Order.

Fourth, that this Order does not prohibit any export, reexport, or other transaction subject to the Regulations where the only items involved that are subject to the Regulations are the foreign-produced direct product of U.S.-origin technology.

Fifth, that the proposed Charging Letter, the Settlement Agreement, and this Order shall be made available to the public.

This Order, which constitutes the final agency action in this matter, is effective immediately.

Entered this 15th day of March, 2001.
Lisa A. Prager,
Acting Assistant Secretary for Export Enforcement.

[FR Doc. 01-7387 Filed 3-23-01; 8:45 am]

BILLING CODE 3510-DT-M